DEPARTMENT OF THE INTERIOR

Fish and Wildlife Service

[FWS-R8-MB-2008-N0153; 80213-9410-0000-7B]

Federal Sport Fish Restoration; California Department of Fish and Game Fish Hatchery and Stocking Program

AGENCY: Fish and Wildlife Service, Interior.

ACTION: Notice of intent to prepare a joint environmental impact statement/ environmental impact report (EIS/EIR); announcement of public scoping meetings.

SUMMARY: We, the U.S. Fish and Wildlife Service (FWS), intend to serve as the lead agency, pursuant to the National Environmental Policy Act (NEPA) of 1969, as amended, in the preparation of a joint EIS/EIR for the California Department of Fish and Game's (CDFG) Fish Hatchery and Stocking Program (Program). Under the Sport Fish Restoration Act (SFRA), FWS currently proposes to fund actions associated with the operation of CDFG's 13 trout hatcheries (listed below) and the Mad River anadromous fish hatchery, including stocking from those 14 hatcheries. The Federal action would not include funding CDFG's private stocking permit program. The CDFG will serve as the lead agency under the California Environmental Quality Act (CEQA) analyzing the hatcheries' operations funded by the SFRA, as well as CDFG's entire fish hatchery program. This notice announces two public scoping meetings on our intended actions.

DATES: Two public scoping meetings will be held to solicit public input on the alternatives, concerns, and issues to be addressed in the EIS/EIR. The meeting dates are:

1. Monday, September 8, 2008, from 4 to 6:30 p.m., Sacramento, California.

2. Thursday, September 11, 2008, from 5:30 to 7:30 p.m., Carson, California.

ADDRESSES: The public scoping meeting locations are:

1. Sacramento—Tsakopoulos Library Galleria, Main Floor, 828 I Street, Sacramento, CA 95814.

2. Carson—Carson Community Center, First Floor, Adult Activities Room, 3 Civic Plaza Drive, Carson, CA 90745.

Send comments on the scope of the EIS/EIR to Ms. Jill Wright, Fish and Wildlife Service, 2800 Cottage Way, Suite W-2606, Sacramento, CA 95825; via e-mail to dfghatcheryeir@dfg.ca.gov; or via fax to (916) 978-6155.

FOR FURTHER INFORMATION CONTACT: Ms. Jill Wright, (916) 978-6182.

SUPPLEMENTARY INFORMATION: FWS intends to serve as the lead agency in the preparation of a joint EIS/EIR for CDFG's Program. Under the SFRA, FWS has the authority to approve grants and provide Federal funds to support actions associated with the Program. FWS currently proposes to fund the 13 trout hatcheries (listed below) and the Mad River anadromous fish hatchery. The combined EIS/EIR document will provide NEPA compliance for the FWS's discretionary action regarding the issuance of Federal funds under the SFRA to support these hatchery operations, including stocking, which provides freshwater angling opportunities and recreation throughout the State. The Federal action does not include funding CDFG's private stocking permit program.

The CDFG will serve as the lead agency under the California Environmental Quality Act (CEQA) analyzing the hatcheries' operations funded by the SFRA, as well as its entire CDFG fish hatchery program. The purpose of CDFG's Program is to implement the requirements of AB 7 (2005), which requires certain production amounts of trout from CDFG hatcheries, as well as to comply with a court order regarding the adequacy of environmental review of CDFG's continuing hatcheries program, which stocks various trout species, one species of char, and anadromous fish species in the inland waters of California.

The CDFG has been rearing and stocking fish in the inland waters of California since the late 1800s, when the State of California enacted legislation to restore and preserve fish in State waters. This legislation called for the newly formed California State Fish and Game Commission, to establish “fish breederies” to stock and supply streams, lakes, and bays with both foreign and domestic fish. Since that time in the late 1800s, the CDFG has continued that mandate by rearing and stocking both inland and anadromous species of fish reared at 21 hatcheries and planting bases located throughout the State.

The CDFG is proposing to continue this objective of stocking hatchery-reared inland and anadromous fish for the recreational use of anglers, per the requirements of AB 7 and subject to the mandates of the court order, while balancing the interaction between hatchery-stocked fish and threatened and endangered species, and other environmental effects. Hatchery operations and stocking activities associated with the CDFG's inland water hatchery program will be evaluated for their effects on the environment, including potential impacts to native species, such as native amphibians, which have recently experienced a decline within the State of California.

The CDFG will also evaluate its issuance of stocking permits to private parties seeking to stock fish in California's inland waters. However, activities associated with CDFG's permitting of private stocking are not eligible for Federal funding under the SFRA and are not within the scope of the NEPA action.

The CDFG currently operates 13 trout hatcheries and 8 anadromous fish hatcheries throughout the State, rearing 5 trout species and 3 salmon species. The trout species include rainbow, brown, brook, cutthroat, and golden. The salmon species include Chinook, Coho, and Kokanee. Operations associated with 1 anadromous (Mad River) and all 13 trout hatcheries are eligible for SFRA grants from FWS.

The trout hatcheries are:

Mount Shasta (Siskiyou County), #3 North Old Stage Road, Mt. Shasta, CA 96067.

Darrah Springs (Tehama County), 29661 Wildcat Road, Paynes Creek, CA 96075.

Crystal Lake (Shasta County), 40158 Baum Lake Road, Cassel, CA 96016.

American River (Sacramento County), 2001 Nimbus Road, Gold River, CA 95670.

Moccasin Creek (Tuolumne County), Highway 49 and 120, Moccasin, CA 95347.

Hot Creek (Mono County), 85 Old School Road, Mammoth Lakes, CA 93546.

Fish Springs (Inyo County), 215 Fish Springs Road, Big Pine, CA 93513.

Mount Whitney (Inyo County), #1 Golden Trout Circle, Independence, CA 93526.

Black Rock Fish Hatchery (Inyo County) Annex of Mount Whitney Hatchery, 1 East Black Rock Springs Road, Independence, CA 93526.

San Joaquin (Fresno County), 17372 Brook Trout Drive, Friant, CA 93626.

Fillmore (Ventura County), 612 East Telegraph Road, Fillmore, CA 93016.

Mojave (San Bernardino County), 12550 Jacaranda Avenue, Victorville, CA 92395.

Kern River Planting Base (Kern County), 14400 North Sierra Way, Kernville, CA 93238.

Silverado Planting Base (Napa County), 7329 Silverado Trail, Yountville, CA 94599.

The anadromous fish hatcheries are:

Iron Gate (Siskiyou County), 8638 Lakeview Road, Hornbrook, CA 96044.

Mad River (Humboldt County), 1660 Hatchery Road, Arcata, CA 95521.

Trinity River (Trinity County), 1000 Hatchery Drive, Lewiston, CA 96052.

Feather River (Butte County), 5 Table Mountain Blvd., Oroville, CA 95965.

Feather River Thermalito Annex (Butte County), 4700 Highway 99, Oroville, CA 95965.

Warm Springs (Sonoma County), 3246 Skaggs Springs Road, Geyserville, CA 95441.

Nimbus (Sacramento County), 2001 Nimbus Rd., Ste. F, Gold River, CA 95670.

Mokelumne (San Joaquin County), 25800 North McIntire Road, Clements, CA 95227.

Merced River (Merced County), 4998 Robinson Road, Snelling, CA 95369.

Over the past 6 years, the CDFG has planted over 49 million combined salmon and trout in hundreds of locations, including some high mountain lakes, low elevation reservoirs, and various streams and creeks. It is anticipated that the production of trout species will increase as a result of the implementation of AB 7. This increase in production will be achieved through options within the existing hatchery system and through the continued assistance of SFRA funding. If the SFRA funding is withdrawn, it may be necessary for CDFG to cut other activities to meet the AB 7 fish production goals. The CDFG has also issued approximately 80 private stocking permits annually, with the majority being issued to individuals stocking rainbow, brook and brown trout; channel and bullhead catfish; large mouth bass; white and black crappie; bluegill; redear; mosquito-fish; white and green sturgeon; and triploid grass carp.

Purpose and Need

The EIS must explain the underlying purpose and need to which the Lead Agency is responding in proposing the action. The purpose of this FWS action is to provide Federal SFRA funds to CDFG to support actions associated with their fish hatchery and stocking program (the 13 trout hatcheries (listed above) and the Mad River anadromous fish hatchery) to provide sportfishing recreation in California. The funds are needed to support angler success within both urban and rural waterbodies. SFRA funds will not, however, be used to support private stocking permits.

Alternatives

Proposed Action Alternative

Under the proposed action, FWS will continue to provide funding for CDFG's 13 hatcheries and the Mad River anadromous fish hatchery.

No Action Alternative

Under the No Action Alternative, the FWS would not approve SFRA grant funds to be used by CDFG to support actions associated with the operations of their fish hatcheries and fish stocking program. Because of the State statutory and public trust requirements related to the hatchery program, CDFG would attempt to continue to implement its State hatchery program, seeking other funding sources to replace the Federal funds.

Other Alternatives

In the EIS, FWS will consider a range of alternatives that could accomplish the proposed action's purpose and need. FWS will be rigorously exploring and objectively evaluating a reasonable range of alternatives with the proposed action and no action alternatives, taking into account the feasibility of the alternatives, as well as the ability to address significant impacts on the human environment.

Special Assistance for Public Scoping Meetings

If special assistance is required at the scoping meetings, please contact Ms. Jill Wright, (916) 978-6182, or via e-mail at Jill_Wright@fws.gov. Please notify Ms. Wright as far in advance of the meetings as possible to enable the Service to secure the needed services. If a request cannot be honored, the requestor will be notified.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: July 30, 2008.
Tom McCabe,
Acting Deputy Regional Director, California and Nevada Region, Sacramento, California.

[FR Doc. E8-17910 Filed 8-4-08; 8:45 am]

BILLING CODE 4310-55-P